DEPARTMENT OF JUSTICE

Notice of Lodging of Consent Decree Under the Clean Air Act

Notice is hereby given that on March 18, 2002, a proposed Consent Decree in United States v. Ferro Corporation, Civil Action No. 2:02 CV 115, was lodged with the United States District Court for the Northern District of Indiana (Hammond Division).

In this action the United States sought civil penalties and injunctive relief from Ferro Corporation (“Ferro”) for its violations of the Clean Air Act (the “Act”), the federally-approved provisions of the Indiana State Implementation Plan, and three administrative orders issued by the United States Environmental Protection Agency (“U.S. EPA”). The consent decree, which reflects a settlement of the claims of three environmental agencies, the Untied States Environmental Protection Agency, the Indiana Department of Environmental Management, and the City of Hammond's Department of Environmental Management, obligates Ferro to pay the three agencies collectively civil penalties totaling $3 million: $1,050,000 to the United States, $600,000 to the State of Indiana and $1,350,000 to the City of Hammond. Additionally, Ferro is obligated pursuant to the consent decree to: (1) Hire an independent consultant to conduct an Environmental Management System (“EMS”) audit at the facility; and (2) as a state and city environmental project, finance a brownfield clean-up project in the City of Hammond, which is valued at $844,000.

The Department of Justice will receive for a period of thirty (30) days from the date of this publication comments relating to this proposed settlement. Comments should be addressed to the Assistant Attorney General, Environment and Natural Resources Division, P.O. Box 7611, U.S. Department of Justice, Washington, DC 20044-7611, and should refer to United States v. Ferro Corporation Civil Action No. 2:02 CV 115, D.J. Ref. 90-5-2-1-1910/1.

The consent decree may be examined at the United States Attorney's Office, Northern District of Indiana, 1001 Main Street, Suite A, Dyer, Indiana 46311, and at U.S. EPA Region 5, 77 West Jackson Boulevard, Chicago, Illinois 60604. A copy of the consent decree may also be obtained by mail from the Consent Decree Library, P.O. Box 7611, U.S. Department of Justice, Washington, DC 20044-761 or by faxing a request to Tonia Fleetwood, fax no. (202) 514-0097, phone confirmation number (202) 514-1547. In requesting a copy, please enclose a check in the amount of $7.00 payable to the U.S. Treasury to cover the costs of copying.

W. Benjamin Fisherow,
Deputy Chief, Environmental Enforcement Section, Environment and Natural Resources, Division.

[FR Doc. 02-8091 Filed 4-3-02; 8:45 am]

BILLING CODE 4410-15-M